DEPARTMENT OF THE INTERIOR

Fish and Wildlife Service

[FWS-R6-R-2013-N061; FF06R06000 134 FXRS1265066CCP0]

Lake Andes National Wildlife Refuge Complex, Lake Andes, SD; Final Comprehensive Conservation Plan

AGENCY: Fish and Wildlife Service, Interior.

ACTION: Notice of availability.

SUMMARY: We, the U.S. Fish and Wildlife Service (Service), announce that our final comprehensive conservation plan and finding of no significant impact (FONSI) for the Lake Andes National Wildlife Refuge Complex (Complex), which includes Lake Andes NWR, Karl E. Mundt NWR, and Lake Andes Wetland Management District, is available. This final plan describes how the Service intends to manage these units for the next 15 years.

ADDRESSES: A copy of the plan may be obtained by any of the following methods. You may request hard copies or a CD-ROM of the plan.

• Email: bernardo_garza@fws.gov. Include “Lake Andes NWR Complex Draft CCP and EA” in the subject line of the message.

• Fax: Attn: Bernardo Garza, 303-236-4792.

• U.S. Mail: U.S. Fish and Wildlife Service, Division of Refuge Planning, P.O. Box 25486, Denver Federal Center, Denver, CO 80225.

• In-Person Pickup: Call 303-236-4377 to make an appointment during regular business hours at 134 Union Boulevard, Suite 300, Lakewood, CO 80228.

FOR FURTHER INFORMATION CONTACT: Bernardo Garza, 303-236-4377, (phone); bernardo_garza@fws.gov (email).

SUPPLEMENTARY INFORMATION:

Introduction

The Complex encompasses three distinct units: Lake Andes National Wildlife Refuge (NWR), Lake Andes Wetland Management District (WMD), and Karl E. Mundt NWR. The Complex lies within the Plains and Prairie Potholes Region (Region) in South Dakota, which is an ecological treasure of biological importance for wildlife, particularly waterfowl and other migratory birds. This Region alone produces approximately 50 percent of the continent's waterfowl population. Hunting and wildlife observation are the two most prevalent public uses on the Complex.

Lake Andes NWR was authorized by an Executive Order in 1936, and formally established in 1939, to preserve an important piece of shallow-water and prairie habitats for waterfowl and other water birds.

Lake Andes WMD was formed in the 1960s to protect wetland and grassland habitat that is critical to our nation's duck population. The Complex manages lands located within Aurora, Bon Homme, Brule, Charles Mix, Clay, Davison, Douglas, Hanson, Hutchinson, Lincoln, Turner, Union and Yankton Counties in southeastern South Dakota. These lands include a variety of grassland.

Karl E. Mundt NWR was established in 1974 to protect an area hugging the eastern bank of the Missouri River in Gregory County, South Dakota, and Boyd County, Nebraska, that was supporting nearly 300 endangered bald eagles each winter. It is the first national wildlife refuge specifically established for the conservation of bald eagles, and its riparian forests, prairie, and upland habitats provide important resting, feeding, breeding, and nesting sites for a wide array of neotropical migratory birds, indigenous turkey, and white-tailed deer. Haying, grazing, prescribed burning, invasive plant control, and prairie restoration are used to maintain riparian and upland habitats. Cottonwoods and other native tree species have been planted in the past to anchor riverine banks in attempts to safeguard important bald eagle roosting sites.

The draft Plan and Environmental Assessment (EA) was made available to the public for review and comment following the announcement in the Federal Register on October 29, 2012 (77 FR 65574). The public was given 30 days to comment. Six individuals and groups provided comments, and appropriate changes were made to the final Plan based on substantive comments. The draft Plan and Environmental Assessment identified and evaluated four alternatives for managing the refuge complex for the next 15 years. Alternative B (the proposed action submitted by the planning team) was selected by the Regional Director as the preferred alternative, and will serve as the final Plan.

The final Plan identifies goals, objectives, and strategies that describe the future management of all three units of the Lake Andes National Wildlife Refuge Complex. Alternative B, the preferred alternative, acknowledges the importance of naturally functioning ecological communities on the refuge. However, changes to the landscape (e.g., human alterations to the landscape and past refuge management that created wetlands) prevent managing the refuge solely as a naturally functioning ecological community. Because some of these changes are significant, some refuge habitats will require “hands-on” management actions during the life of this Plan, while others will be restored. Refuge habitats will continue to be managed utilizing prescriptive cattle grazing, prescribed fire, and a combination of cropping and native vegetation seeding to restore native prairie. Management of the refuge complex will emphasize developing and implementing an improved, science-based priority system to restore prairie habitats for the benefit of waterfowl, State and federally listed species, migratory birds, and other native wildlife.

The refuge complex staff will focus on high-priority lands and, when possible, on lower-priority parcels. The focus is to restore ecological processes and native grassland species to the greatest extent possible within the parameters of available resources and existing constraints. The staff of the refuge complex staff will maintain and in some cases expand the existing levels and quality of hunting, fishing, wildlife observation, photography, and environmental education and interpretation programs. The refuge complex staff will continue to work with local groups and agencies to improve the quality, and augment the quantity of Lake Andes' water. The refuge complex staff will continue to work with the Corps of Engineers and National Park Service local staffs to ensure protection of bald eagle and other migratory bird roosting and nesting sites from erosion along the banks of the Missouri River in the Karl E. Mundt National Wildlife Refuge. Mechanical, biological, and chemical treatments will be used to control invasive plant species. Monitoring and documenting the response to management actions will be greatly expanded. Additional habitat and wildlife objectives will be clearly stated in step down management plans to be completed as this plan is implemented.

The Service is furnishing this notice to advise other agencies and the public of the availability of the final Plan, to provide information on the desired conditions for the refuge, and to detail how the Service will implement management strategies. Based on the review and evaluation of the information contained in the EA, the Regional Director has determined that implementation of the Final Plan does not constitute a major Federal action that would significantly affect the quality of the human environment within the meaning of Section 102(2)(c) of the National Environmental Policy Act. Therefore, an Environmental Impact Statement will not be prepared.

Dated: March 28, 2013.
Matt Hogan,
Deputy Regional Director, Mountain-Prairie Region, U.S. Fish and Wildlife Service.

[FR Doc. 2013-09657 Filed 4-23-13; 8:45 am]

BILLING CODE 4310-55-P